FEDERAL COMMUNICATIONS COMMISSION

47 CFR Part 64

[CC Docket 98-67; DA 04-2061]

Reminder Regarding Upcoming Deadlines for Waivers of Telecommunications Relay Service Rules for Captioned Telephone Providers

AGENCY: Federal Communications Commission.

ACTION: Final rule; expiration of waivers.

SUMMARY: In this document, the Commission reminds Telecommunications Relay Service (TRS) providers who offer captioned telephone Voice Carry Over (VCO) service that the one-year waiver of the requirement that they offer access via 711 to captioned telephone VCO service for inbound calls made to a captioned telephone user expires at midnight on July 31, 2004. Providers are also reminded that the annual reports required for the various three-year waivers of TRS mandatory minimum standards set forth in the Declaratory Ruling are due on August 2, 2004.

DATES: One year VCO waivers expire July 31, 2004. Annual reports for various three-year waivers of TRS mandatory minimum standards are due on August 2, 2004.

FOR FURTHER INFORMATION CONTACT: Traci Randolph, (202) 418-0569 (voice), (202) 418-0537 (TTY), or e-mail traci.randolph@fcc.gov.

SUPPLEMENTARY INFORMATION: On August 1, 2003, the Commission released a Declaratory Ruling, published at 68 FR 55898, September 29, 2003, in CC Docket No. 98-67; FCC 03-190. In the Declaratory Ruling, the Commission clarified that certain TRS mandatory minimum standards do not apply to captioned telephone VCO service, and waived other TRS mandatory standards for captioned telephone VCO service, for all current and future captioned telephone VCO service providers, for the same period of time beginning on the release date of the Declaratory Ruling. This is a summary of the Commission's Public Notice, DA 04-2061, released July 9, 2004. Annual reports required to be filed pursuant to the captioned telephone VCO service Declaratory Ruling should be sent by hand or messenger delivery, by electronic media, by commercial overnight courier, or by first-class or overnight U.S. Postal Service mail (although we continue to experience delays in receiving U.S. Postal mail). The Commission's contractor, Natek, Inc. will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204, Washington, DC 20554. When filing annual reports, please reference CC Docket No. 98-67.

Copies of any subsequently filed documents in this matter will be available for public inspection and copying during regular business hours at the FCC Reference Information Center, Portals II, 445 12th Street, SW., Room CY-A257, Washington, DC 20554. They may also be purchased from the Commission's duplicating contractor, Best Copy and Printing, Inc. (BCPI), Portals II, 445 12th Street, SW., Room CY-B402, Washington, DC 20554. Customers may contact BCPI, Inc. at their Web site: www.bcpiweb.com or call 1-800-378-3160.

To request materials in accessible formats for people with disabilities (braille, large print, electronic files, audio format), send an e-mail to fcc504@fcc.gov or call the Consumer & Governmental Affairs Bureau at (202) 418-0530 (voice) or (202) 418-0432 (TTY). This Public Notice can also be downloaded in Word and Portable Document Format (PDF) at http://www.fcc.gov/cgb.dro.

Synopsis

As background, TRS, as mandated by Title IV of the Americans with Disabilities Act of 1990, makes the telephone system accessible to individuals with hearing or speech disabilities. See 47 U.S.C. 225. This is accomplished through TRS facilities that are staffed by specially trained CAs using special technology. The CA relays conversations between persons using various types of assistive communication devices and persons who do not require such assistive devices. On August 1, 2003, the Commission released the captioned telephone Voice Carry Over (VCO) service Declaratory Ruling finding that: (1) Captioned telephone VCO service is a type of TRS; (2) eligible providers of such service are eligible to recover their costs in accordance with section 225 of the Communications Act; (3) certain TRS mandatory minimum standards do not apply to the provision of captioned telephone VCO service; and (4) certain TRS mandatory minimum standards are waived for captioned telephone VCO service for certain time periods.

Federal Communications Commission.
P. June Taylor,
Chief of Staff, Consumer & Governmental Affairs Bureau.

[FR Doc. 04-17238 Filed 7-27-04; 8:45 am]

BILLING CODE 6712-01-P